DEPARTMENT OF COMMERCE

International Trade Administration

[A-588-857]

Welded Large Diameter Line Pipe From Japan: Final Results of the Expedited Second Sunset Review of the Antidumping Duty Order

AGENCY: Import Administration, International Trade Administration, Department of Commerce.

SUMMARY: On October 1, 2012, the Department of Commerce (the Department) initiated the second sunset review of the antidumping duty order on welded large diameter line pipe (line pipe) from Japan pursuant to section 751(c) of the Tariff Act of 1930, as amended (the Act).¹ On the basis of a notice of intent to participate and an adequate substantive response filed on behalf of domestic interested parties, and no response from a respondent interested party, the Department conducted an expedited (120-day) sunset review. As a result of this sunset review, the Department finds that revocation of the antidumping duty order would likely lead to the continuation or recurrence of dumping. The magnitude of the margin of dumping likely to prevail if the order were revoked is identified in the “Final Results of Review” section of this notice.

¹ See Initiation of Five-Year (“Sunset”) Review, 77 FR 59897 (October 1, 2012) (Sunset Initiation).

DATES: Effective Date: February 13, 2013.

FOR FURTHER INFORMATION CONTACT: John Drury or Angelica Mendoza, AD/CVD Operations, Import Administration, International Trade Administration, U.S. Department of Commerce, 14th Street and Constitution Avenue NW., Washington, DC 20230; telephone: (202) 482-0195 or (202) 482-3019, respectively.

SUPPLEMENTARY INFORMATION:

Background

On October 1, 2012, the Department initiated the sunset review of the antidumping duty order on line pipe from Japan pursuant to section 751(c) of the Act. See Sunset Initiation. The Department received a notice of intent to participate from United States Steel Corporation on October 10, 2012, and a notice of intent to participate from American Cast Iron Pipe Company (ACIPCO); Berg Steel Pipe Company; Dura-Bond Pipe LLC; Stupp Corporation; and Welspun Tubular LLC USA on October 11, 2012 (collectively, domestic interested parties). All domestic interested parties provided information within the deadline specified in 19 CFR 351.218(d)(1)(i), and provided information required under 19 CFR 351.218(d)(1)(ii). The domestic interested parties claimed interested party status under section 771(9)(C) of the Act as U.S. producers of a domestic like product. We received a complete substantive response from the domestic interested parties within the 30-day deadline specified in 19 CFR 351.218(d)(3)(i) on October 31, 2012. No respondent interested parties submitted responses. As a result of the timely filed, substantive response from the domestic interested parties, the Department conducted an expedited sunset review of the order, pursuant to section 751(c)(3)(B) of the Act and 19 CFR 351.218(e)(1)(ii)(C)(2).

Scope of the Order

The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope in the accompanying decision memorandum remains dispositive. See “Issues and Decision Memorandum” from Christian Marsh, Deputy Assistant Secretary for Antidumping and Countervailing Duty Operations, to Paul Piquado, Assistant Secretary for Import Administration, dated concurrently with this notice (Decision Memorandum).

Analysis of Comments Received

All issues raised in this sunset review are addressed in the Decision Memorandum, which is hereby adopted by this notice. The issues discussed in the Decision Memorandum include the likelihood of the continuation or recurrence of dumping and the magnitude of the margin of dumping that is likely to prevail if the order were revoked. Parties can find a complete discussion of all issues raised in this sunset review and the corresponding recommendations in this public memorandum, which is on file electronically via Import Administration's Antidumping and Countervailing Duty Centralized Electronic Service System (IA ACCESS). IA ACCESS is available to registered users at http://iaaccess.trade.gov and is available to all parties in the Central Records Unit, Room 7046, of the main Department of Commerce building. In addition, a complete version of the Decision Memorandum can be accessed directly on the Internet at http://ia.ita.doc.gov/frn. The paper copy and electronic versions of the Decision Memorandum are identical in content.

Final Results of Review

The Department determines that revocation of the antidumping duty order on line pipe from Japan would likely lead to continuation or recurrence of dumping. Further, the Department finds that the magnitude of the margin of dumping that is likely to prevail if the order was revoked is 30.80 percent for Nippon Steel Corporation, Kawasaki Steel Corporation, and for all other Japanese producers and exporters of subject merchandise.

Notification

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

The Department is issuing and publishing the results and notice in accordance with sections 751(c), 752(c), and 777(i)(1) of the Act.

Dated: January 31, 2013.
Paul Piquado,
Assistant Secretary for Import Administration.

[FR Doc. 2013-03364 Filed 2-12-13; 8:45 am]

BILLING CODE 3510-DS-P